DEPARTMENT OF ENERGY

Office of Energy Efficiency and Renewable Energy

Notice of the Stakeholder Meeting To Receive Input on the U.S. Department of Energy (DOE) Outyear Marine and Hydrokinetic Program Strategy

AGENCY: Wind and Water Power Technologies Office, Office of Energy Efficiency and Renewable Energy, Department of Energy (DOE).

ACTION: Notice of the Stakeholder Meeting.

SUMMARY: The Wind and Water Power Technologies Office within the U.S. DOE intends to hold a Stakeholder Meeting on the request for information (RFI) to receive input for the U.S. DOE Outyear Marine and Hydrokinetic Program Strategy in Washington, DC on April 27, 2016. The RFI is posted on the EERE Exchange Web site: https://goo.gl/Ei6ppc. Due to space constraints, there is limited seating, therefore the public meeting will be open to a limited number of parties. If you are interested in attending the meeting, please express interest in attending by emailing MHKRFI1570@ee.doe.gov. Please include with the subject line “Meeting Interest,” your name, organization, and contact information. The deadline to send notice of your interest, or interested parties, is Friday, April 8 at 11:59 p.m. ET. You will be notified via email on April 11 if you were confirmed as an attendee. All individuals, including those not able to attend will have the opportunity to submit comments to the RFI until 5:00 p.m. ET April 29, 2016.

DATES: DOE will host the Stakeholder Meeting from 12:00 p.m. to 5:00 p.m. on Wednesday, April 27, 2016.

ADDRESSES: The meeting will be held at the Capitol Hilton, 1001 16th St. NW., Washington, DC 20036.

FOR FURTHER INFORMATION CONTACT: Maggie Yancey, Office of Energy Efficiency and Renewable Energy, U.S. Department of Energy, 1000 Independence Ave. SW., Washington, DC 20585. Telephone: (202) 586-4536. For email, please include in the subject line “Further Information,” and in the body of the email: your name, organization, contact information, and your specific question or inquiry. MHKRFI1570@ee.doe.gov.

SUPPLEMENTARY INFORMATION:

Public Participation

The event is open to the public based upon space availability. All individuals, including those not able to attend will have the opportunity to submit comments to the RFI until 5:00 p.m. ET April 29, 2016. The RFI is posted on the EERE Exchange Web site: https://goo.gl/Ei6ppc. Participants should limit information and comments to those based on personal experience, individual advice, information, or facts regarding this topic. It is not the object of this session to obtain any group position or consensus from the meeting participants. To most effectively use the limited time, please refrain from passing judgment on another participant's recommendations or advice, and instead, concentrate on your individual experiences.

Issued on April 1, 2016 in Washington, DC.
Mark Higgins,
Deputy Director, Wind and Water Power Technologies Office, Office of Energy Efficiency and Renewable Energy.

[FR Doc. 2016-07867 Filed 4-5-16; 8:45 am]

BILLING CODE 6450-01-P